DEPARTMENT OF THE INTERIOR

Bureau of Indian Affairs

Rate Adjustments for Indian Irrigation Projects

Correction

In notice document E7-7558 beginning on page 19950 in the issue of Friday, April 20, 2007, make the following correction:

On page 19954, in the table titled “Southwest Region Rate Table,” in the fourth column in the last entry, “150.00” should read “15.00”.

[FR Doc. Z7-7558 Filed 5-2-07; 8:45 am]

BILLING CODE 1505-01-P

DEPARTMENT OF THE TREASURY

Internal Revenue Service

26 CFR Part 602

[TD 9315]

RIN 1545-BD10

Dual Consolidated Loss Regulations

Correction

In rule document E7-4618 beginning on page 12902 in the issue of Monday, March 19, 2007, make the following correction:

§ 602.101 [Corrected]

On page 12946, in the second column, in § 602.101(b), in the table, under the heading “Current OMB Control No.”, in the third entry, “1545-1646” should read “1545-1946”.

[FR Doc. Z7-4618 Filed 5-2-07; 8:45 am]

BILLING CODE 1505-01-D